DEPARTMENT OF HOMELAND SECURITY

[Docket No. DHS-2010-0081]

National Emergency Communications Plan (NECP) Goal 2 Performance Report

AGENCY: National Protection and Programs Directorate, DHS.

ACTION: 30-day notice and request for comments; New Information Collection Request: 1670-NEW.

SUMMARY: The Department of Homeland Security (DHS), National Protection and Programs Directorate (NPPD), Office of Cybersecurity and Communications (CS&C), Office of Emergency Communications (OEC), will submit the following Information Collection Request to the Office of Management and Budget (OMB) for review and clearance in accordance with the Paperwork Reduction Act of 1995 (Pub. L. 104-13, 44 U.S.C. Chapter 35). NPPD is soliciting comments concerning New Information Collection Request, NECP Goal 2 Performance Report. DHS previously published this Information Collection Request in the Federal Register on January 14, 2011, at 75 FR 2700, for a 60-day public comment period. DHS received no comments. The purpose of this notice is to allow an additional 30-days for public comments.

DATES: Comments are encouraged and will be accepted until May 20, 2011. This process is conducted in accordance with 5 CFR 1320.10.

ADDRESSES: Interested persons are invited to submit written comments on the proposed information collection to the OMB Office of Information and Regulatory Affairs. Comments should be addressed to the OMB Desk Officer, Department of Homeland Security, Office of Civil Rights and Civil Liberties. Comments must be identified by DHS-2010-0081 and may be submitted by one of the following methods:

• Federal eRulemaking Portal: http://www.regulations.gov.

• E-mail: oira_submission@omb.eop.gov. Include the docket number in the subject line of the message.

• Fax: (202) 395-5806.

Instructions: All submissions received must include the words “Department of Homeland Security” and the docket number for this action. Comments received will be posted without alteration at http://www.regulations.gov, including any personal information provided.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

FOR FURTHER INFORMATION CONTACT: Ryan Oremland, DHS/NPPD/CS&C/OEC, Ryan.Oremland@dhs.gov.

SUPPLEMENTARY INFORMATION: OEC, formed under Title XVIII of the Homeland Security Act of 2002, 6 U.S.C. 101 et seq., is required to develop the NECP, including identification of goals, timeframes, and appropriate measures to achieve interoperable communications capabilities. The NECP Performance Report is designed to meet these statutory requirements.

OEC will use the information gained through the reports to track progress that state, local, and territorial governments are making in implementing milestones and demonstrating goals of the NECP. Information regarding demonstration of the NECP will measure the ability of counties or county-equivalents to demonstrate response-level emergency communications within one hour for routine events involving multiple jurisdictions.

Statewide Interoperability Coordinators or Statewide Communications Interoperability Planning points of contact (police, fire, emergency medical services, emergency managers, dispatchers, radio operators, government workers, etc.) will be responsible for collecting this information from their respective counties or county-equivalents within their states. The report will be submitted electronically via e-mail at OEC@dhs.gov.

Analysis

Agency: Department of Homeland Security, National Protection and Programs Directorate.

Title: NECP Goal 2 Performance Report.

From: Not Applicable.

OMB Number: 1670-XXXX.

Frequency: Annually.

Affected Public: State, local, and territorial governments.

Number of Respondents: 56.

Estimated Time per Respondent: 30 hours.

Total Burden Hours: 1680 annual burden hours.

Total Burden Cost (capital/startup): $0.

Total Burden Cost (operating/maintaining): $0.

Dated: April 8, 2011.
David Epperson,
Chief Information Officer, National Protection and Programs Directorate, Department of Homeland Security.

[FR Doc. 2011-9626 Filed 4-19-11; 8:45 am]

BILLING CODE 9110-9P-P